DEPARTMENT OF LABOR

Employment and Training Administration

[NAFTA-3769]

The Diana Knitting Corporation, Johnstown, NY; Notice of Termination of Investigation

Pursuant to section 221 of the Trade Act of 1974, an investigation was initiated on February 8, 2000, in response to a worker petition which was filed on behalf of workers at The Diana Knitting Corporation, Johnstown, New York.

An active certification covering the petitioning group of workers at the subject firm remains in effect (NAFTA-3727E). Consequently, further investigation in this case would serve no purpose, and the investigation has been terminated.

Signed in Washington, D.C. this 3rd day of April, 2000.
Grant D. Beale,
Program Manager, Division of Trade Adjustment Assistance.

[FR Doc. 00-8923 Filed 4-10-00; 8:45 am]

BILLING CODE 4510-30-M